NUCLEAR REGULATORY COMMISSION

[Docket Nos. 50-321 and 50-366; NRC-2012-0106]

Southern Nuclear Operating Company, Inc., Notice of Withdrawal of Application for Amendment to Facility Operating License

The U.S. Nuclear Regulatory Commission (the Commission) has granted the request of Southern Nuclear Operating Company, Inc. (the licensee) to withdraw its December 15, 2011, application for proposed amendment to Facility Operating License Nos. DPR-57 and NPF-5 for the Edwin I. Hatch, Units 1 and 2, located in Appling County, Georgia.

The proposed amendment would have revised the Technical Specifications related to the plant service water (PSW) and ultimate heat sink surveillance requirements for the minimum water level in each PSW pump well of the intake structure.

The Commission had previously issued a Notice of Consideration of Issuance of Amendment published in the Federal Register on February 7, 2012 (77 FR 6148). However, by letter dated April 20, 2012, the licensee withdrew the proposed change.

For further details with respect to this action, see the application for amendment dated December 15, 2011, and the licensee's letter dated April 20, 2012, which withdrew the application for license amendment. Documents may be examined, and/or copied for a fee, at the NRC's Public Document Room (PDR), located at One White Flint North, Public File Area O1-F21, 11555 Rockville Pike (first floor), Rockville, Maryland. Publicly available documents created or received at the NRC are accessible electronically through the Agencywide Documents Access and Management System (ADAMS) in the NRC's Library at http://www.nrc.gov/reading-rm/adams.html. Persons who do not have access to ADAMS or who encounter problems in accessing the documents located in ADAMS should contact the NRC PDR Reference staff by telephone at 1-800-397-4209, or 301-415-4737 or by email to pdr.resource@nrc.gov.

Dated at Rockville, Maryland, this 3rd day of May 2012.
For the Nuclear Regulatory Commission.
Patrick G. Boyle,
Project Manager, Plant Licensing Branch II-1, Division of Operating Reactor Licensing, Office of Nuclear Reactor Regulation.

[FR Doc. 2012-11422 Filed 5-10-12; 8:45 am]

BILLING CODE 7590-01-P